DEPARTMENT OF HEALTH AND HUMAN SERVICES

Centers for Disease Control and Prevention.

[60Day-18-18AF]

Proposed Data Collection Submitted for Public Comment and Recommendations—Assessments To Inform Program Refinement for HIV, Other STD, and Pregnancy Prevention Among Middle and High-School Aged Youth

AGENCY: Centers for Disease Control and Prevention (CDC), Department of Health and Human Services (HHS).

ACTION: Notice; Correction.

SUMMARY: The Centers for Disease Control and Prevention (CDC) requested publication of a document in the Federal Register. Document 2017-24317, Proposed Data Collection Submitted for Public Comment and Recommendations—Assessments to Inform Program Refinement for HIV, other STD, and Pregnancy Prevention among Middle and High-School Aged Youth, has been scheduled to publish on November 8, 2017. The document provided the incorrect docket number (CDC-2018-0093).

FOR FURTHER INFORMATION CONTACT: Leroy Richardson, 1600 Clifton Road, MS D-74, Atlanta, GA 30333; telephone (404) 639-4965; email: omb@cdc.gov.

Correction

Correct the docket number to read:

[Docket No. CDC-2017-0093]

Dated: November 3, 2017.
Leroy A. Richardson,
Chief, Information Collection Review Office, Office of Scientific Integrity, Office of the Associate Director for Science, Office of the Director, Centers for Disease Control and Prevention.

[FR Doc. 2017-24388 Filed 11-8-17; 8:45 am]

BILLING CODE 4163-18-P